DEPARTMENT OF HEALTH AND HUMAN SERVICES

National Institutes of Health

ODS Analytical Methods and Reference Materials Program Stakeholders' Meeting Notice

Notice is hereby given of the National Institutes of Health (NIH) Office of Dietary Supplements (ODS) Analytical Methods and Reference Materials Program Stakeholders' Meeting to be held Monday, September 10, 2007, in the Lister Hill Auditorium on the NIH Campus in Bethesda, Maryland 20892. The meeting will begin at 9 a.m. and will be open to the public.

In fiscal year (FY) 2002, Congress addressed the need for support of analytical methods and reference materials development related to dietary supplements. The congressional appropriations language supported an increased ODS budget for several topics, including analytical methods and reference materials. The Senate language called for “ODS to allocate sufficient funds to speed up an ongoing collaborative effort to develop and disseminate validated analytical methods and reference materials for the most commonly used botanicals and other dietary supplements.”

On February 8, 2002, ODS held a public meeting to solicit comments to assist ODS in designing an overall strategy for implementing the congressional mandate to foster development and validation of analytical methods and reference materials for dietary supplements.

In FY 2004 and 2005, Congress again used similar language supporting the Analytical Methods and Reference Materials (AMRM) program in the ODS appropriations.

The purpose of the proposed meeting on September 10, 2007, is to state the progress that has been made by the AMRM program since its inception five years ago and to receive comments on directions for the next five years. The meeting is intended to seek stakeholder comments that will assist us with the continued implementation of an overall strategy for research, development, validation, and dissemination of analytical methods and standard reference materials for dietary supplement ingredients. The sponsor of this meeting is the NIH Office of Dietary Supplements.

Registration: Ms. Channet Williams of the American Institutes of Research will be coordinating the registration for this meeting. To register, please forward your name and complete mailing address, including phone number, via e-mail to cwilliams@air.org. If you don't have access to e-mail, please call Ms. Williams at 301-592-2130. American Institutes for Research's mailing address is 10720 Columbia Pike, Silver Spring, Maryland 20901. Registration information, as well as background information about the AMRM program, is available at http://www.ods.od.nih.gov.

If you wish to make an oral presentation during the meeting, you must indicate this when you register and submit the following information: (1) A brief written statement of the general nature of the statement that you wish to present, (2) the names and addresses of the person(s) who will give the presentation, and (3) the approximate length of time that you are requesting for your presentation. Depending on the number of people who register to make presentations, we may have to limit the time allotted for each presentation.

Please Note: The NIH has instituted new security measures to ensure the safety of NIH employees and property. All visitors must be prepared to show a photo ID upon request. Visitors may be required to pass through a metal detector and have bags, backpacks, or purses inspected or x-rayed as they enter NIH buildings. For more information about the new security measures at NIH, please visit the Web site at http://www.nih.gov/about/visitorsecurity.htm.

Dated: July 25, 2007.
Elias A. Zerhouni,
Director, National Institutes of Health.

[FR Doc. E7-15048 Filed 8-2-07; 8:45 am]

BILLING CODE 4140-01-P